FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 10, 2015.

A. Federal Reserve Bank of Dallas (E. Ann Worthy, Vice President) 2200 North Pearl Street, Dallas, Texas 75201-2272:

1. Ben J. Scott, Coleman, Texas, individually and as co-trustee of Coleman Bancshares, Inc., Employee Stock Ownership Plan, Coleman, Texas; Reave Jay Scott, Abilene, Texas; and David or Amy Scott, Georgetown, Texas, collectively a group acting in concert, to retain 10 percent or more of Coleman Bancshares, Inc., Coleman, Texas, and thereby indirectly control of Coleman County State Bank, Coleman, Texas.

Board of Governors of the Federal Reserve System, January 22, 2015.
Michael J. Lewandowski,
Assistant Secretary of the Board.

[FR Doc. 2015-01520 Filed 1-27-15; 8:45 am]

BILLING CODE 6210-01-P